DEPARTMENT OF DEFENSE

Department of the Navy

Notice of Availability (NOA) of the Draft Environmental Impact Statement for the Disposal and Reuse of Naval Air Station Brunswick, ME, and To Announce Public Hearings

AGENCY: Department of the Navy, DoD.

ACTION: Notice.

SUMMARY: Pursuant to Section 102(2)(C) of the National Environmental Policy Act (NEPA) of 1969, as implemented by the Council on Environmental Quality Regulations (40 CFR parts 1500-1508), the Department of the Navy (Navy) with the Federal Aviation Administration (FAA) acting as a cooperating agency, has prepared and filed the Draft Environmental Impact Statement (EIS) to evaluate the potential environmental consequences associated with the disposal and reuse of Naval Air Station (NAS) Brunswick, Maine. The Navy is required to close NAS Brunswick per Public Law 101-510, the Defense Base Closure and Realignment Act of 1990, as amended in 2005. Public hearings will be held to provide information and receive oral and written comments on the Draft EIS. Federal, state and local agencies, and interested individuals are invited to be present or represented at the hearings.

DATES AND ADDRESSES: Two public hearings will be held. Each scheduled public hearing will be preceded by an open information session to allow interested individuals to review information presented in the Draft EIS. Navy representatives will be available during the information session to provide clarification as necessary related to the Draft EIS. Afternoon and evening information sessions are scheduled as follows:

1. Evening Information Session and Public Hearing: Brunswick Junior High School, Gymnasium, 65 Columbia Avenue, Brunswick, Maine 04011.

Wednesday, June 2, 2010

Information Session—4:30 p.m. to 6:30 p.m.

Public Hearing—7 p.m. to 9 p.m.

2. Daytime Information Session and Public Hearing: Town of Brunswick, Parks and Recreation Building, 30 Federal Street, Brunswick, Maine 04011.

Thursday, June 3, 2010

Information Session—10 a.m. to 12 p.m.

Public Hearing—12:30 p.m. to 2:30 p.m.

FOR FURTHER INFORMATION CONTACT: Director, BRAC Program Management Office Northeast, 4911 Broad Street, Building 679, Philadelphia, PA 19112-1303, telephone 215-897-4900, fax 215-897-4902, e-mail: david.drozd@navy.mil.

SUPPLEMENTARY INFORMATION: The Navy acting as a lead agency with the FAA acting as a cooperating agency, has prepared and filed, the Draft EIS for the Disposal and Reuse of NAS Brunswick, Maine in accordance with requirements of the National Environmental Policy Act (NEPA) of 1969 (42 U.S.C. 4321-4345) and its implementing regulations (40 CFR parts 1500-1508). A Notice of Intent for this Draft EIS was published in the Federal Register on October 24, 2008 (Federal Register/Vol. 73, No. 207 pgs 63451 & 63452/Friday, October 24, 2008/Notices). Navy is lead agency for the proposed action. The purpose of the proposed action is to dispose of NAS Brunswick, Maine in a manner consistent with the Brunswick Naval Air Station Reuse Master Plan as developed by the Brunswick Local Redevelopment Authority (BLRA) in December 2007. The Navy is required to close NAS Brunswick, Maine, in accordance with Public Law 101-510, the Defense Base Closure and Realignment Act of 1990, as amended in 2005. NAS Brunswick must be closed on or before September 15, 2011. The BRAC Law exempts the decision-making process of the Commission from the provisions of NEPA. The Law also relieves the Department of Defense (DoD) from the NEPA requirements to consider the need for closing, realigning, or transferring functions, and from looking at alternative installations to close or realign. However, in accordance with NEPA, before disposing of any real property, the Navy must analyze the environmental effects of the disposal of the NAS Brunswick property. This Draft EIS has identified and considered two alternatives for the disposal and reuse of NAS Brunswick, and the no-action alternative.

Alternative 1 includes the disposal of NAS Brunswick and its outlying properties by the Navy and its reuse in a manner consistent with the Brunswick Naval Air Station Reuse Master Plan. This alternative would maintain the existing airfield for private aviation purposes. It is anticipated that full build-out of the Plan would be implemented over a 20-year period. The Brunswick Naval Air Station Reuse Master Plan calls for the development of approximately 1,630 acres (51%) of the total base property. In addition, approximately 1,570 acres (49%) of the base would be dedicated to a variety of active and passive land uses, including recreation, open space, and natural areas. The plan reuses the existing airfield and its supporting infrastructure, provides a mix of land use types and densities, and preserves open space and natural areas. The Navy has recognized Alternative 1 as the preferred alternative.

Alternative 2 includes the disposal of NAS Brunswick and its outlying properties by the Navy and its reuse in a manner that features a higher density of residential and community mixed-use development and does not include reuse of the airfield. Similar to Alternative 1, this alternative includes a mix of land use types, preserves open space and natural areas. It is anticipated that full build-out of the high-density scenario would be implemented over a 20-year period. Under Alternative 2 there would be development of approximately 1,580 acres (49%) of the total base property. In addition, approximately 1,620 acres (51%) of the base would be dedicated to a variety of active and passive land uses, including recreation, open space, and natural areas. Although this alternative would have less developable acres than Alternative 1, the density of residential and community mixed-uses would be higher.

Alternative 3 is required by NEPA and will evaluate the impacts at NAS Brunswick in the event that the property is not disposed. Under this alternative, existing mission and support operations would be relocated; however, the installation would be retained by the U.S. government in caretaker status. No reuse or redevelopment would occur at the facility. The installation would be placed in caretaker status. The Draft EIS addresses environmental impacts of each alternative pertaining to the disposal and reuse of the NAS Brunswick property.

The Draft EIS addresses any potential environmental impacts under each alternative associated with: water resources; air quality; biological resources; soils, topography, and geology; land use; noise exposure levels; socioeconomic resources; community facilities; transportation; environmental management; infrastructure; and cultural resources. The analyses includes direct and indirect impacts, and accounts for cumulative impacts from other foreseen Federal, State, or local activities at and around NAS Brunswick. The Navy conducted the scoping process to identify community concerns and local issues that should be addressed in the EIS. Federal, State and local agencies, and interested parties provided written comments to the Navy and identified specific issues or topics of environmental concern that should be addressed in the EIS. The Navy considered these comments in determining the scope of the EIS. The Draft EIS has been distributed to various Federal, State, and local agencies, as well as other interested individuals and organizations. In addition, copies of the Draft EIS have been distributed to the following libraries and publicly accessible facilities for public review:

1. Curtis Memorial Library, 23 Pleasant Street, Brunswick, ME 04011-2261.

2. Town of Brunswick—Department of Planning and Development, 28 Federal Street, Brunswick, Maine 04011.

3. Topsham Public Library, 25 Foreside Road, Topsham, ME 04086-1832.

An electronic copy of the Draft EIS is available for public viewing at http://www.brunswickeis.com. Federal, State and local agencies, as well as interested parties, are invited and encouraged to be present or represented at the hearings. To ensure the accuracy of the record, all statements presented orally at the public hearings should be submitted in writing. All comments will become part of the public record and will be responded to in the Final Environmental Impact Statement (FEIS). Equal weight will be given to oral and written statements. In the interest of available time, and to ensure all who wish to give an oral statement at the public hearings have the opportunity to do so, each speaker's comments will be limited to three minutes. If a longer statement is to be presented, it should be summarized at the public hearing and the full text submitted in writing either at the hearing or mailed or e-mailed to: Director, BRAC Program Management Office (PMO) Northeast, 4911 Broad Street, Building 679, Philadelphia, PA 19112-1303, telephone 215-897-4900, fax 215-897-4902, e-mail: david.drozd@navy.mil.

Residents will be required to sign-in to speak. Comments can be made in the following ways: (1) Oral statements or written comments at the public hearings; or (2) Written comments mailed to the BRAC PMO address in this notice; or (3) Written comments faxed to the BRAC PMO fax number in this notice; or (4) Comments submitted via e-mail using the BRAC PMO e-mail address in this notice. All written comments postmarked by Monday, June 28, 2010, will become a part of the official public record and will be responded to in the FEIS.

Requests for special assistance, sign language interpretation for the hearing impaired, language interpreters, or other auxiliary aids for scheduled public hearing meeting must be sent by mail or e-mail to Mr. Matthew Butwin, Ecology and Environment, Inc., 368 Pleasant View Drive, Lancaster, NY 14086, telephone: 716-684-8060, e-mail: mbutwin@ene.com.

Dated: April 27, 2010.
A.M. Vallandingham,
Lieutenant Commander, Judge Advocate General's Corps, U.S. Navy, Federal Register Liaison Officer.

[FR Doc. 2010-10396 Filed 5-3-10; 8:45 am]

BILLING CODE 3810-FF-P